SECURITIES AND EXCHANGE COMMISSION

17 CFR Parts 240 and 249

[Release 34-57526A; File No. S7-06-07]

RIN 3235-AJ80

Proposed Rule Changes of Self-Regulatory Organizations

AGENCY: Securities and Exchange Commission.

ACTION: Final rule; Correction.

SUMMARY: The Securities and Exchange Commission (“Commission”) published in the Federal Register of March 27, 2008 (72 FR 16179), a document concerning proposed rule changes by Self-Regulatory Organizations submitted pursuant to Section 19(b)(7)(A) of the Securities Exchange Act of 1934.

DATES: Effective Date: April 28, 2008.

FOR FURTHER INFORMATION CONTACT: John Roeser, Assistant Director, at (202) 551-5630, Michou Nguyen, Special Counsel, at (202) 551-5634, or Sherry Moore, Paralegal, at (202) 551-5549, Division of Trading and Markets, Securities and Exchange Commission, 100 F Street, NE., Washington, DC 20549-6628.

SUPPLEMENTARY INFORMATION: This document corrects the comment due date that was incorrectly stated in the sample 19(b)(7)(A) release published with the final rule.

In rule document E8-5998 beginning on page 16179 in the issue of Thursday, March 27, 2008, make the following correction:

On page 16196, in the third column, the phrase “should be submitted on or before April 17, 2008.” is corrected to read “should be submitted on or before May 8, 2008.

Dated: April 14, 2008.
Nancy M. Morris,
Secretary.

[FR Doc. E8-8267 Filed 4-16-08; 8:45 am]

BILLING CODE 8010-01-P